DEPARTMENT OF ENERGY

Federal Energy Regulatory Commission

Combined Notice of Filings #2

Take notice that the Commission received the following electric corporate filings:

Docket Numbers: EC16-156-000.

Applicants: Town Square Energy East, LLC, Town Square Energy, LLC.

Description: Supplement to July 27, 2016 Application of Town Square Energy East, LLC, et. al. for Authorization Under Federal Power Act Section 203.

Filed Date: 9/29/16.

Accession Number: 20160929-5118.

Comments Due: 5 p.m. ET 10/11/16.

Docket Numbers: EC16-196-000.

Applicants: Utah Red Hills Renewable Park, LLC.

Description: Application of Utah Red Hills Renewable Park, LLC, for Authorization for Disposition of Jurisdictional Facilities and Requests for Waivers and Expedited Action.

Filed Date: 9/30/16.

Accession Number: 20160930-5381.

Comments Due: 5 p.m. ET 10/21/16.

Take notice that the Commission received the following exempt wholesale generator filings:

Docket Numbers: EG17-1-000.

Applicants: ESS Lewes Project, LLC.

Description: Notice of Self-Certification of Exempt Wholesale Generator Status of ESS Lewes Project, LLC.

Filed Date: 10/3/16.

Accession Number: 20161003-5091.

Comments Due: 5 p.m. ET 10/24/16.

Docket Numbers: EG17-2-000.

Applicants: Comanche Peak Power Company LLC.

Description: Comanche Peak submits EWG Self-Certification.

Filed Date: 10/3/16.

Accession Number: 20161003-5122.

Comments Due: 5 p.m. ET 10/24/16.

Take notice that the Commission received the following electric rate filings:

Docket Numbers: ER16-2100-001.

Applicants: Gila River Power LLC.

Description: Market-Based Triennial Review Filing: Gila River Power LLC Updated MBR Tariff—Refiled Tariff to be effective 10/3/2016.

Filed Date: 10/3/16.

Accession Number: 20161003-5286.

Comments Due: 5 p.m. ET 10/24/16.

Docket Numbers: ER16-2659-002.

Applicants: Grant Plains Wind, LLC.

Description: Tariff Amendment: Additional Amendment of Application and Initial Tariff Baseline Filing to be effective 11/1/2016.

Filed Date: 10/3/16.

Accession Number: 20161003-5129.

Comments Due: 5 p.m. ET 10/24/16.

Docket Numbers: ER16-2729-001.

Applicants: Duke Energy Progress, LLC.

Description: Tariff Amendment: Amended DEP-Harris Recovery of Abandoned Nuclear Plant Costs to be effective 11/1/2016.

Filed Date: 10/3/16.

Accession Number: 20161003-5081.

Comments Due: 5 p.m. ET 10/24/16.

Docket Numbers: ER17-1-000.

Applicants: Southwest Power Pool, Inc.

Description: § 205(d) Rate Filing: 2872 Pleasant Hill Wind/SPS ASFC Agreement Cancellation to be effective 9/30/2015.

Filed Date: 10/3/16.

Accession Number: 20161003-5008.

Comments Due: 5 p.m. ET 10/24/16.

Docket Numbers: ER17-2-000.

Applicants: Frontier Windpower, LLC.

Description: Baseline eTariff Filing: MBR Tariff and Application to be effective 10/21/2016.

Filed Date: 10/3/16.

Accession Number: 20161003-5108.

Comments Due: 5 p.m. ET 10/24/16.

Docket Numbers: ER17-3-000.

Applicants: ESS Lewes Project, LLC.

Description: Baseline eTariff Filing: Baseline new to be effective 12/2/2016.

Filed Date: 10/3/16.

Accession Number: 20161003-5119.

Comments Due: 5 p.m. ET 10/24/16.

Docket Numbers: ER17-4-000.

Applicants: Midcontinent Independent System Operator, Inc.

Description: § 205(d) Rate Filing: 2016-10-03_SA 1503 NSP-Mankato 3rd Rev. GIA (G261/J299) to be effective 9/19/2016.

Filed Date: 10/3/16.

Accession Number: 20161003-5178.

Comments Due: 5 p.m. ET 10/24/16.

Docket Numbers: ER17-5-000.

Applicants: The United Illuminating Company.

Description: § 205(d) Rate Filing: Amendments to Lease Agreement to be effective 10/4/2016.

Filed Date: 10/3/16.

Accession Number: 20161003-5180.

Comments Due: 5 p.m. ET 10/24/16.

Docket Numbers: ER17-6-000.

Applicants: Deseret Generation & Transmission Co-operative, Inc.

Description: § 205(d) Rate Filing: Attachment K Update Filing to be effective 11/30/2016.

Filed Date: 10/3/16.

Accession Number: 20161003-5226.

Comments Due: 5 p.m. ET 10/24/16.

Docket Numbers: ER17-7-000.

Applicants: Southwest Power Pool, Inc.

Description: § 205(d) Rate Filing: 3183 Basin Electric and Northern States Power Company Att AO to be effective 9/1/2016.

Filed Date: 10/3/16.

Accession Number: 20161003-5237.

Comments Due: 5 p.m. ET 10/24/16.

Docket Numbers: ER17-8-000.

Applicants: Tucson Electric Power Company.

Description: § 205(d) Rate Filing: Revisions to Open Access Transmission Tariff to be effective 12/5/2016.

Filed Date: 10/3/16.

Accession Number: 20161003-5267.

Comments Due: 5 p.m. ET 10/24/16.

Docket Numbers: ER17-9-000.

Applicants: UNS Electric, Inc.

Description: § 205(d) Rate Filing: Revisions to Open Access Transmission Tariff to be effective 12/5/2016.

Filed Date: 10/3/16.

Accession Number: 20161003-5276.

Comments Due: 5 p.m. ET 10/24/16.

Take notice that the Commission received the following electric securities filings:

Docket Numbers: ES16-47-000.

Applicants: AEP Utilities, Inc.

Description: Amendment to July 29, 2016 Application Under Section 204 of the Federal Power Act for Authorization to Issue Securities of AEP Utilities, Inc.

Filed Date: 9/30/16.

Accession Number: 20160930-5193.

Comments Due: 5 p.m. ET 10/21/16.

Take notice that the Commission received the following public utility holding company filings:

Docket Numbers: PH16-16-000.

Applicants: Starwood Energy Group Global, L.L.C.

Description: Starwood Energy Group Global, L.L.C. submits FERC 65-B Waiver Notification, et al.

Filed Date: 9/30/16.

Accession Number: 20160930-5369.

Comments Due: 5 p.m. ET 10/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2016.
Nathaniel J. Davis, Sr.,
Deputy Secretary.

[FR Doc. 2016-24546 Filed 10-11-16; 8:45 am]

BILLING CODE 6717-01-P